DEPARTMENT OF ENERGY

Federal Energy Regulatory Commission

[Docket No. CP11-546-000]

Panhandle Eastern Pipe Line Company, LP; Notice of Application

On September 16, 2011, Panhandle Eastern Pipe Line Company, LP (Panhandle) filed with the Federal Energy Regulatory Commission (Commission) an application under section 7(b) of the Natural Gas Act and the Rules and Regulations of the Commission's Regulations for authority to abandon the three remaining compressor units and appurtenant facilities at the Adams Compressor Station site in Texas County, Oklahoma. The abandonment would serve to align declining compression requirements of the gathering system feeding into the Adams Compressor Station. Furthermore, firm transportation services provided to existing Panhandle customers will not be affected, as more fully detailed in the Application.

Questions concerning this application may be directed to Stephen T. Veatch, Senior Director of Certificates & Tariffs, 5444 Weatheimer Road, Houston, Texas 77056, by calling 713-989-4654 or by e-mailing Stephen.Veatch@sug.com.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit seven copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission encourages electronic submission of protests and interventions in lieu of paper using the “eFiling” link at http://www.fere.gov. Persons unable to file electronically should submit an original and seven copies of the protest or intervention to the Federal Energy Regulatory Commission, 888 First Street, NE, Washington, DC 20426. This filing is accessible on-line at http://www.ferc.gov.using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call(866) 208-3676 (toll free). For TTY, call (202) 502-8659.

Comment Date: 5 p.m. Eastern Time on October 19, 2011.

Dated: September 28, 2011.
Kimberly D. Bose,
Secretary.

[FR Doc. 2011-25626 Filed 10-4-11; 8:45 am]

BILLING CODE 6717-01-P